NUCLEAR REGULATORY COMMISSION

Advisory Committee on Reactor Safeguards; Meeting Notice

In accordance with the purposes of sections 29 and 182b. of the Atomic Energy Act (42 U.S.C. 2039, 2232b), the Advisory Committee on Reactor Safeguards will hold a meeting on November 2-4, 2000, in Conference Room T-2B3, 11545 Rockville Pike, Rockville, Maryland. The date of this meeting was previously published in the Federal Register on Thursday, October 14, 1999 (64 FR 55787).

Thursday, November 2, 2000

8:30 A.M.-8:35 A.M.: Opening Remarks by the ACRS Chairman (Open)—The ACRS Chairman will make opening remarks regarding the conduct of the meeting.

8:35 A.M.-10:45 A.M.: Proposed Final Report of the Technical Study of Spent Fuel Pool Accident Risk at Decommissioning Nuclear Power Plants (Open)—The Committee will hear presentations by and hold discussions with representatives of the NRC staff regarding the revised version of the report and the staff's response to previous ACRS concerns.

11:00 A.M.-12:30 P.M.: Risk-Informed Regulation Implementation Plan (RIRIP) (Open)—The Committee will hear presentations by and hold discussions with representatives of the NRC staff regarding the update to the RIRIP.

1:30 P.M.-2:30 P.M.: Proposed Framework for Risk-Informed Changes to the Technical Requirements of 10 CFR Part 50 (Open)—The Committee will hear presentations by and hold discussions with representatives of the NRC staff regarding the proposed NRC framework for risk-informed changes to the technical requirements of 10 CFR Part 50 described in SECY-00-0198, Attachment 1.

2:30 P.M.-4:30 P.M.: Differing Professional Opinion (DPO) on Steam Generator Tube Integrity (Open)—The Committee will hear a report by the Ad Hoc Subcommittee Chairman regarding the outcome of the October 10-14, 2000 subcommittee meeting and hold discussions with the DPO author and representatives of the NRC staff, as needed, on additional information related to DPO issues.

4:30 P.M.-5:30 P.M.: Break and Preparation of Draft ACRS Reports (Open)—Cognizant ACRS members will prepare draft reports, as needed, for consideration by the full Committee.

5:30 P.M.-7:00 P.M.: Discussion of Proposed ACRS Reports (Open)—The Committee will discuss proposed ACRS reports on matters considered during this meeting.

Friday, November 3, 2000

8:30 A.M.-8:35 A.M.: Opening Remarks by the ACRS Chairman (Open)—The ACRS Chairman will make opening remarks regarding the conduct of the meeting.

8:35 A.M.-10:30 A.M.: Performance-Based, Risk-Informed Fire Protection Standard for LWRs and Related Issues (Open)—The Committee will hear presentations by and hold discussions with representatives of the NRC staff, Nuclear Energy Institute (NEI), and National Fire Protection Association (NFPA) on the revised NFPA 805 standard, post-fire safe shutdown circuit analysis, and other related fire protection issues.

10:45 A.M.-12:00 Noon: ABB/CE and Siemens Digital I&C Applications (Open)—The Committee will hear a report by the Subcommittee Chairman on a subcommittee meeting on this matter and his recommendation regarding further review by the full Committee.

1:00 P.M.-3:00 P.M.: License Renewal Guidance Documents (Open)—The Committee will hear presentations by and hold discussions with representatives of the NRC staff regarding proposed Standard Review Plan for license renewal, Generic Aging Lessons Learned Report, Regulatory Guide, and NEI 95-10, “Industry Guidelines for Implementing the Requirements of the License Renewal Rule.”

3:15 P.M.-4:30 P.M.: Research Report to the Commission (Open)—The Committee will discuss the current status of the draft report.

4:30 P.M.-5:00 P.M.: Future ACRS Activities/Report of the Planning and Procedures Subcommittee (Open)—The Committee will discuss the recommendations of the Planning and Procedures Subcommittee regarding items proposed for consideration by the full Committee during future meetings. Also, it will hear a report of the Planning and Procedures Subcommittee on matters related to the conduct of ACRS business, and organizational and personnel matters relating to the ACRS.

5:00 P.M.-5:15 P.M.: Reconciliation of ACRS Comments and Recommendations (Open)—The Committee will discuss the responses from the NRC Executive Director for Operations (EDO) to comments and recommendations included in recent ACRS reports and letters. The EDO responses are expected to be made available to the Committee prior to the meeting.

5:15 P.M.-6:00 P.M.: Break and Preparation of Draft ACRS Reports (Open)—Cognizant ACRS members will prepare draft reports, as needed, for consideration by the full Committee.

6:00 P.M.-7:30 P.M.: Discussion of Proposed ACRS Reports (Open)—The Committee will discuss proposed ACRS reports.

Saturday, November 4, 2000

8:30 A.M.-1:00 P.M.: Discussion of Proposed ACRS Reports (Open)—The Committee will continue its discussion of proposed ACRS reports.

1:00 P.M.-1:30 P.M.: Miscellaneous (Open)—The Committee will discuss matters related to the conduct of Committee activities and matters and specific issues that were not completed during previous meetings, as time and availability of information permit.

Procedures for the conduct of and participation in ACRS meetings were published in the Federal Register on October 11, 2000 (65 FR 60476). In accordance with these procedures, oral or written views may be presented by members of the public, including representatives of the nuclear industry. Electronic recordings will be permitted only during the open portions of the meeting and questions may be asked only by members of the Committee, its consultants, and staff. Persons desiring to make oral statements should notify Mr. James E. Lyons, ACRS, five days before the meeting, if possible, so that appropriate arrangements can be made to allow necessary time during the meeting for such statements. Use of still, motion picture, and television cameras during the meeting may be limited to selected portions of the meeting as determined by the Chairman. Information regarding the time to be set aside for this purpose may be obtained by contacting Mr. James E. Lyons prior to the meeting. In view of the possibility that the schedule for ACRS meetings may be adjusted by the Chairman as necessary to facilitate the conduct of the meeting, persons planning to attend should check with Mr. James E. Lyons if such rescheduling would result in major inconvenience.

Further information regarding topics to be discussed, whether the meeting has been canceled or rescheduled, the Chairman's ruling on requests for the opportunity to present oral statements, and the time allotted therefor can be obtained by contacting Mr. James E. Lyons (telephone 301-415-7371), between 7:30 a.m. and 4:l5 p.m., EDT.

ACRS meeting agenda, meeting transcripts, and letter reports are available for downloading or viewing on the internet at http://www.nrc.gov/ACRSACNW.

Videoteleconferencing service is available for observing open sessions of ACRS meetings. Those wishing to use this service for observing ACRS meetings should contact Mr. Theron Brown, ACRS Audio Visual Technician (301-415-8066), between 7:30 a.m. and 3:45 p.m., EDT, at least 10 days before the meeting to ensure the availability of this service. Individuals or organizations requesting this service will be responsible for telephone line charges and for providing the equipment facilities that they use to establish the videoteleconferencing link. The availability of videoteleconferencing services is not guaranteed.

Dated: October 16, 2000.
Andrew L. Bates,
Advisory Committee Management Officer.

[FR Doc. 00-26990 Filed 10-19-00; 8:45 am]

BILLING CODE 7590-01-P